ENVIRONMENTAL PROTECTION AGENCY

[FRL-8484-1]

Proposed CERCLA Administrative Cost Recovery Settlement: Waterbury Realty, LLC and Salvatore Cascino; EPAC Superfund Site, Waterbury, CT

AGENCY: Environmental Protection Agency (EPA).

ACTION: Notice; request for public comment.

SUMMARY: In accordance with section 122(i) of the Comprehensive Environmental Response, Compensation and Liability Act (“CERCLA”), 42 U.S.C. 9622(i), notice is hereby given of a proposed administrative settlement of past response costs concerning the EPAC Superfund Site in Waterbury, Connecticut with the following settling parties: Waterbury Realty, LLC and Salvatore Cascino. The settling parties agree to reimburse the Agency $175,000 in past costs payable in two installments; $87,500 to be paid not later than forty-five (45) days following the effective date of the settlement agreement; and, $87,500 to be paid not later than ninety days from the effective date of the settlement agreement. Additionally, the Settling Parties shall pay to EPA twenty-five percent (25%) of any cash payment they receive as a result of any contribution suit or claim against or settlement agreement with Great Brook Realty, Inc., for matters related to the settlement agreement. This settlement includes a covenant not to sue the settling parties pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02114-2023.

DATES: Comments must be submitted by November 19, 2007.

ADDRESSES: Comments should be addressed to the Regional Hearing Clerk, U.S. Environmental Protection Agency, Region I, One Congress Street, Suite 1100 (RAA), Boston, Massachusetts 02114-2023 and should refer to: The EPAC Superfund Site, U.S. EPA Docket Number 01-1007-0147.

FOR FURTHER INFORMATION CONTACT: A copy of the proposed settlement may be obtained from Sarah Meeks, Enforcement Counsel, U.S. Environmental Protection Agency, Region I, Office of Environmental Stewardship, One Congress Street, Suite 1100 (SES), Boston, MA 02114-2023, (617) 918-1438.

Dated: October 11, 2007.
James T. Owens, III,
Director, Office of Site Remediation and Restoration.

[FR Doc. E7-20580 Filed 10-17-07; 8:45 am]

BILLING CODE 6560-50-P